DEPARTMENT OF EDUCATION

Office of Special Education and Rehabilitative Services—Proposed Comprehensive Plan for National Activities under Subparts 2 and 3, Part D of the Individuals with Disabilities Education Act, as amended by the Individuals with Disabilities Education Improvement Act of 2004 (IDEA)

AGENCY: Department of Education.

ACTION: Notice of request for comment and recommendations on the Proposed Comprehensive Plan for IDEA Part D National Activities.

SUMMARY: The Secretary of Education (Secretary) solicits comments and recommendations from the public prior to finalizing the comprehensive plan for national activities authorized under subparts 2 and 3, part D of IDEA (Comprehensive Plan or Plan). Pursuant to section 681(a) of IDEA, the Secretary is responsible for developing and implementing the Comprehensive Plan in order to enhance the provision of early intervention services, educational services, related services, and transitional services to children with disabilities under parts B and C of IDEA.

DATES: In order to be assured of consideration as we develop the final Comprehensive Plan, we must receive your comments on or before January 11, 2007.

ADDRESSES: Address all comments about the proposed Comprehensive Plan to the Office of Special Education and Rehabilitative Services, U.S. Department of Education, 400 Maryland Avenue, SW., Potomac Center Plaza, room 4102, Washington, DC 20202-2641.

If you prefer to send your comments through the Internet, use the following address: comments@ed.gov.

You must use the term “Comments on IDEA Part D National Activities Comprehensive Plan” in the subject line of your electronic message.

FOR FURTHER INFORMATION CONTACT: Sarah Kuiken. Telephone: (202) 245-7371.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: We invite you to submit comments regarding any areas of the proposed Comprehensive Plan in which you believe changes are needed, either to clarify a provision or to facilitate its implementation. To ensure that your comments have maximum effect in developing the final Comprehensive Plan, we urge you to identify clearly the specific area of the Plan that each comment addresses and to arrange your comments in the same order as the proposed Plan.

We encourage you to make your comments as specific as possible regarding the nature and scope of the action necessary to provide the clarifications you are seeking. Please specify how your your change will clarify or help to improve the Comprehensive Plan.

Please also include the following with your comments and recommendations: A description of the area of your involvement in special education, regular education or early intervention, as well as your role, if any, in that area (e.g., parent, teacher, student, service provider, administrator, or researcher).

During and after the comment period, you may inspect all public comments about the Comprehensive Plan at Potomac Center Plaza, 550 12th Street, SW., Washington, DC, between the hours of 8:30 a.m. and 4 p.m., Eastern time, Monday through Friday of each week except Federal holidays.

Assistance to Individuals With Disabilities in Reviewing the Comments

On request, we will supply an appropriate aid, such as a reader or print magnifier, to an individual with a disability who needs assistance to review the comments. If you want to schedule an appointment for this type of aid, please contact the person listed under FOR FURTHER INFORMATION CONTACT.

Comprehensive Plan

The proposed Comprehensive Plan is published as an attachment to this notice.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: November 15, 2006.
John H. Hager,
Assistant Secretary for Special Education and Rehabilitative Services.

IDEA Part D National Activities Comprehensive Plan

Planning Requirements

The national activities authorized under subparts 2 and 3, part D of the Individuals with Disabilities Education Act, as amended by the Individuals with Disabilities Education Improvement Act of 2004 (IDEA) support States, school systems, and families in improving results for infants, toddlers, and children with disabilities. These improvements are achieved through a series of strategic investments in knowledge production and development, knowledge transfer and utilization, and knowledge implementation evaluation.

In section 681(a) of IDEA, Congress directed the Secretary to develop and implement a comprehensive plan (Comprehensive Plan or Plan) for the national activities authorized under subparts 2 and 3, part D of IDEA (IDEA Part D National Activities) in order to enhance the provision of early intervention services, educational services, related services, and transitional services to children with disabilities under parts B and C of IDEA. To the extent practicable, the Plan must be coordinated with the plan developed pursuant to section 178(c) of the Education Sciences Reform Act of 2002. The Plan will be used by the Department of Education (Department) to ensure that the activities funded under subparts 2 and 3, part D of IDEA (Subparts 2 and 3) further the long-term program goals of Subparts 2 and 3 and benefit children of all ages with the full range of disabilities. To the extent possible, the Plan must include mechanisms to address early intervention, educational, related service, and transitional needs identified by State educational agencies (SEAs) in applications submitted for State personnel development grants under subpart 1, part D of IDEA as well as grants under Subparts 2 and 3.

As the principal Federal agency administering IDEA, the Department's Office of Special Education Programs (OSEP) has been charged by the Secretary with coordinating the Plan's development and implementation. A summary of OSEP's comprehensive planning process follows.

Planning Process

Building on the implementation of earlier plans developed by the Department in accordance with part D of IDEA and the Government Performance and Results Act of 1993 (GPRA), OSEP designed the IDEA part D Comprehensive Planning Process (Planning Process) to identify key issues that must be addressed to meet the critical needs of infants, toddlers, and children with disabilities and their families.

In 2005, OSEP solicited assistance from an outside contractor, The Study Group Inc., to facilitate the Planning Process. The Study Group began work with OSEP on the Planning Process by engaging the expertise of a national workgroup comprised of individuals within and outside the Department. The workgroup included 20 members who represented IDEA Part D stakeholder groups and a broad range of expertise including: experts in designing, implementing, and evaluating the types of national activities called for in Subparts 2 and 3; experts knowledgeable about the operation of SEAs, local educational agencies (LEAs), and IDEA Part C lead agencies (LAs); and experts familiar with the needs and priorities of teachers, parents, administrators, early intervention personnel, related services personnel, and transition personnel. In addition staff from both OSEP and the National Center for Special Education Research participated in the process.

The workgroup convened in Washington, DC, on October 3-4, 2005, to examine current and future efforts to improve results for children with disabilities across seven cross-cutting program outcomes that had been generated through prior IDEA and Department planning processes.

This proposed Comprehensive Plan was informed by the work of the workgroup, the Department's internal long range planning process, and a review of the following information sources:

• State Annual Performance Reports (APRs) for parts B and C of IDEA.

• Personnel development activities conducted by States through State Personnel Development Grants (subpart 1, part D of IDEA).

• Transitional needs identified by SEAs in applications submitted for State personnel development grants under subpart 1, part D of IDEA as well as grants under Subparts 2 and 3.

• Long-term program goals and performance measures developed by OSEP for programs authorized under part D of IDEA.

• Topics and issues identified during OSEP's prior part D Comprehensive Planning Process in 2002.

• GPRA indicators and targets.

• State-reported data under section 618 of IDEA.

• Studies and evaluations supported under IDEA on a wide range of issues related to IDEA and its impact on States, districts, schools, and children with disabilities and their families.

The Scope of the Plan: Programs Authorized Under Subparts 2 and 3

The purpose of the IDEA Part D National Activities is to improve early intervention, educational, related service, and transitional outcomes for children with disabilities. The Comprehensive Plan addresses the range of national programs authorized under Subparts 2 and 3, such as teacher training and personnel development, technology and media services, parent training and information, and technical assistance and dissemination. The program areas authorized under Subparts 2 and 3 are described in the following sections.¹

¹ Section 665 of IDEA, a new provision in the law, authorizes a program for Interim Alternative Educational Settings, Behavioral Supports, and Systemic School Interventions. Planning for this program, should Congress appropriate funds for it, is addressed under planning for the program outcomes and areas described in this Comprehensive Plan.

• Personnel Development to Improve Services and Results for Children with Disabilities. (IDEA, section 662) The personnel development activities supported under section 662 of IDEA assist States in meeting their responsibility to ensure the availability of highly qualified personnel to serve infants, toddlers and children with disabilities. Part D of IDEA authorizes support for pre-service and in-service training targeting special educators, regular educators, administrators, and related services personnel. Personnel Development projects focus on supporting beginning special educators, training for the education of children with low-incidence disabilities, and leadership preparation.

• Technical Assistance, Demonstration Projects, Dissemination of Information, and Implementation of Scientifically Based Research. (IDEA, section 663) Technical assistance, model demonstrations, and dissemination are the primary vehicles under IDEA for putting up-to-date, scientifically based information into the hands of individuals and organizations serving children with disabilities. IDEA Part D funds support national centers and projects designed to improve services in such areas as: Addressing behavioral needs of students with disabilities; improving the alignment and development of valid and reliable assessments and alternate assessments; training personnel on how to address diverse student learning and performance characteristics; ensuring effective transitions between school and post-school settings for students with disabilities; and applying scientifically based research to the implementation of policy, procedures, practices, and training.

• Parent Training and Information Centers and Community Parent Resource Centers. (IDEA, sections 671 through 673) Parent Training and Information Centers and Community Parent Resource Centers provide information, technical assistance, and training to families of children with disabilities on child and parent rights under IDEA, the nature and needs of a child's disability, and effective communication with professionals serving children with disabilities.

• Technology Development, Demonstration, and Utilization; Media Services; and Instructional Materials. (IDEA, section 674) The technology and media-related activities supported under section 674 of IDEA promote the development, demonstration, and utilization of technology along with research on using technology to improve learning and provide access to the classroom for children with disabilities. Media services include captioning and video description that are appropriate for use in the classroom setting, for individuals who are hearing impaired, blind, or print disabled. Also funded under this authority is the National Instructional Materials Access Center (NIMAC), a new national center required by IDEA. The purpose of the NIMAC is to function as a national repository for National Instructional Materials Accessibility Standard (NIMAS) files.

• Studies and Evaluation. (IDEA, section 664) Part D of IDEA authorizes a comprehensive program of national studies and evaluations to provide information on a wide range of issues related to IDEA and its impact on States, districts, schools, and children with disabilities and their families. Section 664 of IDEA requires a national assessment of special education to determine the effectiveness of IDEA; to provide timely information to the President, Congress, States, LEAs, and the public on how to implement IDEA more effectively; and to provide the President and Congress information that will be useful in developing legislation to achieve the purposes of IDEA more effectively.²

² IDEA delegates to the Director of the Institute of Education Sciences (IES) responsibility to carry out most of section 664 of IDEA (Studies and Evaluation), including two legally mandated research activities, the “Assessment of National Activities”, and a “Study on Ensuring Accountability for Students Who Are Held to Alternate Assessment Standards.” Other activities supported under the Studies and Evaluations program include the National Longitudinal Transition Study-2, and the Pre-Elementary Education Longitudinal Study. This comprehensive plan includes those activities delegated to IES under section 664 of IDEA, and coordination between OSEP and IES is discussed in the following sections.

Overview

This proposed Comprehensive Plan is designed to ensure that the national activities funded under Subparts 2 and 3:

• Support the provisions of IDEA and benefit children of all ages with the full range of disabilities.

• Align with and support the full and successful implementation of the No Child Left Behind Act of 2001 (NCLB) and the Secretary's initiatives. For further information on the Secretary's initiatives, please refer to: http://www.ed.gov/about/inits/ed/index.html.

• Address the Department requirements for long range program planning and accountability by furthering the long-term program goals of Subparts 2 and 3.

The proposed Plan is organized around seven program outcomes that OSEP has identified as important for improving results for children with disabilities. These program outcomes also: connect to OSEP's IDEA program performance and accountability measures; relate to the needs of children of all ages and with all types of disabilities and are applicable to all programs authorized under Subparts 2 and 3; and relate to topics and issues that OSEP has supported through IDEA Part D National Activities in the past, but that require further investments. The seven program outcomes are:

• To the maximum extent appropriate, children with disabilities will receive high quality educational and early intervention services in natural settings with typically developing peers.

• Children with disabilities will be appropriately identified and served in a timely manner.

• Children with disabilities will demonstrate improved literacy, including early language, communication and numeracy skills.

• Children with disabilities will demonstrate improved social and behavioral skills.

• Students with disabilities will complete high school prepared for independent living and postsecondary education and/or competitive employment.

• All service providers, including special education teachers, paraprofessionals, related service personnel and early intervention personnel, will be qualified and possess the knowledge and skills to implement effective, research-based practices and interventions.

• Family capacity will be enhanced.

Program Outcomes

This section more fully describes each program outcome and the Department's proposed investment plans for the next 5 to 10 years for supporting, through the IDEA Part D National Activities, projects and activities that are designed to achieve these outcomes. Decisions regarding specific investments addressing these outcome areas will be made on an annual basis in accordance with the guidance and priorities of the Secretary. In addition, several outcome areas identified below in the context of improving results for children with disabilities are also addressed for all children under NCLB. Where appropriate, the funding and implementation of specific activities and projects will be coordinated with ongoing work in other offices throughout the Department that are addressing similar substantive areas for all students. Under each program outcome, we have included brief descriptions of possible approaches to achieve these outcomes.

Outcome 1: To the Maximum Extent Appropriate, Children With Disabilities Will Receive High Quality Educational and Early Intervention Services in Natural Settings With Typically Developing Peers

This outcome relates to two key requirements of IDEA— (1) That children with disabilities are provided a free appropriate public education (FAPE) in the least restrictive environment (LRE), and (2) that infants and toddlers receiving early intervention services are provided those services in “natural environments”, which for very young children could be a home or community setting. The LRE for a child varies with each child's individual needs. Some children may make progress in a regular classroom setting while others may need alternatives to a regular classroom. High quality educational services are critical to providing access to the general education curriculum for children with disabilities such that they have opportunities similar to their non-disabled peers to participate and demonstrate progress in that curriculum. Also included in this outcome area is the interaction between children with disabilities and their non-disabled peers. The emphasis is not on placement but whether children are spending their day in activities with nondisabled children.

The Department intends to support IDEA Part D National Activities that address this outcome by supporting projects and activities that are designed to:

• Enhance the capacity of regular and special education to provide differentiated instruction across all age, academic, and functional levels of students. Differentiated instruction responds to the diversity present in today's regular education classrooms. It promotes a teacher's response to individual learner needs and is based on a student's readiness, interests, and learning profile (Tomlinson, 2001). Differentiated instruction also motivates and engages students in the general education curriculum.

• Describe characteristics of successful interventions to optimize children's access to the general education curriculum or appropriate early childhood activities. Research that traces back more than two decades indicates that instructional strategies, such as presenting lessons in multiple formats and linking lessons to students' prior knowledge, can promote students' access to new knowledge (Gersten, Fuchs, Williams, and Baker, 2001; Deshler et al., 2001). Similarly, the use of other scientifically based practices, such as mnemonics and peer tutoring, has been shown to increase the amount of time students with disabilities spend engaged and learning. In the context of early childhood education, this outcome would focus on practices such as early literacy, motor skills, and social emotional development.

• Assess the impact of participation in the general education curriculum on student academic performance and social and behavioral interactions. NCLB and IDEA work together to ensure that schools, districts, and States are held accountable for improving the achievement of all groups of students, including students with disabilities, each year. It is important to gather and analyze data on the ways in which we support participation of children with disabilities in the general education curriculum and how the different approaches support improved outcomes for students with disabilities.

• Align student data collection, analysis, and reporting systems to be consistent with State accountability systems. IDEA Part D stakeholders are using validated innovations in assessment to collect and analyze data on students with disabilities, such as curriculum-based measurement (CBM), which uses the frequent collection of data to help teachers make informed decisions about instruction. Aligning data that is collected at the classroom level with data collected for State accountability purposes will improve the quality of information that is available to assess the progress of students with disabilities at the individual, classroom, school, district and State levels.

• Identify uses of technology to enhance and monitor student participation in the general education curriculum or appropriate early childhood practices. The use of specially designed CBM technology, for example, has virtually eliminated the need for teachers to be involved in the mechanical and technical aspects of CBM assessment (Fuchs, Fuchs, McMaster, and Otalba 2003; Spicuzza et al., 2001). In addition, the use of classroom instruction that employs computer-aided instruction allows students to receive immediate feedback, and provides multiple ways of interacting with content.

Outcome 2: Children With Disabilities Will Be Appropriately Identified and Served in a Timely Manner

This outcome focuses on the child find provisions in IDEA for all children across the age continuum, not only for very young children. The intent of this outcome is to improve early and appropriate identification of children with disabilities and the provision of timely and effective services to those children. The impact of inappropriate identification has resulted in disproportionate representation by race and ethnicity in some disability categories, and late and most likely under-identification of children in other categories (Klingner et al., 2005; Donovan and Cross, 2002; Losen and Reschly, 1998; Garcia and Ortiz, 1988).

The Department intends to support IDEA Part D National Activities that address this outcome by supporting projects and activities that are designed to:

• Ensure a flexible early intervention system that promotes timely referral, evaluation, identification, and service delivery from birth through age 21. There is strong empirical evidence to suggest that early and timely intervention for the kindergarten through grade 3 population, with continuous progress monitoring, will result in improved learning outcomes for at-risk students, and may ultimately reduce inappropriate referrals to, and enrollment in, special education (Foorman et al., 1998; Speece and Case 2001; Torgesen et al., 2001; Vaughn, Linan-Thompson, and Hickman, 2003; Vellutino, Scanlon, and Lyon, 2000; Kozleski, Sobel, and Taylor, 2003). While emphasis has been placed on identification of at-risk students at the elementary level, the current identification, evaluation, and service delivery system must respond to the needs of all learners from birth through age 21. In particular, the system must provide flexibility to enter and exit special education and collaborating agency services across disability and age spectrums.

• Disseminate evidence-based models of early identification and early intervening programs, including programs based on “Response to Intervention” (RTI). Both IDEA and NCLB support the use of multi-tier systems of intervention options to provide high quality instruction and intervention that match children's needs. Dissemination of models of early intervention that are based on RTI, as well as other evidence-based models of intervention, is important because such dissemination will require researchers and technical assistance providers to identify core principles of the interventions and policy considerations, as well as the professional development needs across all systems of education (e.g., SEA, LEA) and institutions of higher education.

• Enhance the ability of regular education, special education, and early childhood programs to collect, analyze, and report progress data for continuous, data-based decision-making. NCLB has focused attention on the importance of tracking student academic progress to assist in early identification of children with disabilities, inform instructional practice, and to demonstrate student progress. The delivery of technical assistance and dissemination of information is needed to assist regular educators, special educators, and early childhood personnel in differentiating the collection of and the analysis of data to inform instruction and improve early identification. Instructional and behavioral data need to be easily accessible to field practitioners. In order for data-driven decision-making to occur, data collection and reporting systems across agencies need to be compatible and comprehensible to both users and receivers of the information.

• Implement personnel preparation programs for regular education, special education, and early childhood personnel with an emphasis on early intervention. Pre-service and in-service professional development opportunities and programs that provide the philosophical foundation for early interventions, including RTI and other evidence-based systems of identification, evaluation, and service delivery, are needed. Field practitioners, both veteran and novice, require knowledge, skills, and technology to implement effective, research-based practices and interventions.

• Address issues of inappropriate disproportionate representation of minority students in special education. While many States have documented disproportionate representation of minorities in special education, to date, there are few models or strategies that have proven effective in reducing inappropriate identification (Artiles, Rueda, Salazar, and Higareda, 2002; Donovan and Cross, 2002; Klingner et al., 2005; Oswald, Coutinho, Best, and Singh, 1999). Further exploration is needed to assist regular educators in differentiating instruction for all learners based on student need. Both regular and special educators need to become better skilled at using culturally free identification practices and interventions for students who are at-risk for school failure and, potentially, for being identified as needing special education.

Outcome 3: Children With Disabilities Will Demonstrate Improved Literacy, Including Early Language, Communication and Numeracy Skills

This outcome focuses on the development of literacy and numeracy skills by children with disabilities across all age groups. In both literacy and numeracy, the skill range should cover pre- and early learning skills to more advanced skills. The goal for students with disabilities, age 6 through 21, is to meet challenging standards as determined by State assessments, using accommodations, as appropriate. For young children, the goal is for functional outcomes to improve. The use of technology, media and instructional materials will be considered in each of the projects and activities described below.

The Department intends to support IDEA Part D National Activities that address this outcome by supporting projects and activities that are designed to:

• Focus on improving middle and high school literacy. At higher grade levels, literacy skills become increasingly important for accessing the general education curriculum. Students with disabilities who do not receive sufficient literacy instruction at younger ages risk falling even further behind as they grow older, both in their literacy skills and in their ability to master other academic content areas. Accordingly, there is a need for evidence-based literacy instruction, for students with disabilities, to be widely used across middle and high school grades.

• Improve the quality and usefulness of student performance data measurement systems for students with disabilities. Student performance data can help teachers, administrators, and parents appropriately monitor a student's progress in developing literacy skills. For example, these data can help pinpoint a student's strengths and weaknesses. High quality performance measurement data systems also can facilitate teachers' ability to modify instruction as needed to meet the needs of students with disabilities.

• Disseminate and implement promising practices that promote literacy and numeracy across the school curriculum and across environments (e.g., early childhood settings, home, and community). Literacy and numeracy are important basic skills that affect the ability of students to succeed in all content areas and all environments. Whether a child is learning history, mathematics, or other subjects, the child's literacy and numeracy are essential to ensuring the child's success in the classroom, in early childhood settings, at home, or in the community.

• Encourage implementation of RTI as an instructional practice in regular education environments. The most recent reauthorization of IDEA allows the use of RTI strategies to identify children with learning disabilities. The RTI model is based upon evidence that many of the problems that lead to special education referral (e.g., lack of progress in literacy development) can best be addressed in regular education environments, prior to, and perhaps in lieu of, a special education referral. The RTI approach is intended to encourage practitioners to intervene early for all children who are considered academically at-risk.

Outcome 4: Children With Disabilities Will Demonstrate Improved Social and Behavioral Skills

Documentation of the nature of the relationship between improved social and behavioral skills and improved academic outcomes is emerging (Warren et al., 2004; Brooks, Todd, Tofflemoyer, and Horner, 2003). All children require some level of social and behavioral support. While most children will respond to a systematic school-wide model that provides social and behavioral support, others will require more intensive levels of support and intervention to achieve improved educational outcomes.

The Department intends to support IDEA Part D National Activities that address this outcome by supporting projects and activities that are designed to:

• Develop positive measures to assess social and emotional growth and development. Positive behavioral interventions and supports have contributed to improvements in student behavior (Sugai et al., 2000). While existing measures have emphasized behavioral difficulties, office discipline referral, suspensions, and expulsions, future measures should include assessments of pro-social behaviors, including students' social and emotional growth and development, social inclusion, and self-determination.

• Implement early identification and intervention systems to promote positive social and emotional behaviors. Research, training, technical assistance and technology projects and activities supported under the IDEA Part D National Activities have demonstrated the effectiveness of early intervention systems that promote school-wide use of positive behavioral interventions and supports (Stormont, Lewis, and Beckner, 2005). There is a need for continued work in these areas in order to support further implementation of proven practices for early intervention. In particular, there is a need to emphasize the implementation of early identification systems that focus on children ages birth through nine.

• Design protocols to measure increased academic engagement resulting from improved social and behavioral skills. Recent studies are demonstrating a positive relationship between improved behavior and improved academic achievement. Protocols must be designed to assess the relationship between student behavior, academic relevance and rigor, and increased academic engagement.

• Increase the collaboration and interaction among schools, families, and social service agencies in the design and implementation of behavioral support systems. Parent training and information centers funded under subpart 3 of part D of IDEA have facilitated the delivery of information on behavioral supports to parents. In order to maximize improved behavioral outcomes for children, additional work is needed for the design and implementation of behavioral support systems that benefit from effective collaboration and shared decision-making among schools, families, and social service agencies.

• Support enhanced school leadership in the design and delivery of school-wide student behavioral support systems. School leadership is a key factor in school-wide change and the effective implementation of school-wide behavioral supports (OSEP Center on Positive Behavioral Interventions and Supports, University of Oregon, 2002). While nearly half of the States currently require elementary principals to have knowledge in behavioral supports in order to be certified, there is a need for projects that support leadership development and provide school leaders with the necessary knowledge and skills to design and deliver school-wide behavioral supports.

Outcome 5: Students With Disabilities Will Complete High School Prepared for Independent Living and Postsecondary Education and/or Competitive Employment

For some years, OSEP has attempted to ensure that secondary school students with disabilities complete high school prepared for independent living and postsecondary education and/or competitive employment. OSEP has monitored this outcome by reviewing changes in the graduation rate and the dropout rate of students with disabilities. While trends for both of these indicators have demonstrated movement in the right direction, there is a need for more work in this area (Lehr et al., 2004; Thurlow, Sinclair, and Johnson, 2002; Wagner, Newman, Cameto, and Levine, 2005).

The Department intends to support IDEA Part D National Activities that address this outcome by supporting projects and activities that are designed to:

• Develop a broad range of performance measures to assess student transition outcomes. The measures typically used to assess outcomes for transition-aged students are graduation and dropout rates. These data alone do not provide a complete picture of successful transition outcomes. It is important to continue to identify and collect longitudinal information that describes the status of individuals with disabilities after they exit school. Expanded performance measures include participation in postsecondary education, employment, wages and benefits, and independent living status.

• Support and disseminate model programs of evidence-based success in meeting the needs of transition-aged students and their families. The knowledge base about successful transition of students with disabilities from secondary school to postsecondary environments has grown considerably over the past two decades. Research confirms the value of well-designed, well-coordinated transition activities involving schools, students, families, and community and adult service agencies while also documenting the constant need for further improvement in transition services and supports (Lehr et al., 2004; National Center on Secondary Education and Transition, 2005). Improved transition services and student outcomes are dependent upon the identification and dissemination of effective strategies, models, and information that will assist parents and professionals in the transition decision-making process.

• Promote programs that include both academic achievement skills attainment (graduation/school completion) and, as needed, the skills necessary to participate in employment and community living. With an emphasis on academic achievement and high stakes testing, schools are finding it difficult to provide students with disabilities with programs and services that support employment and career development as well as other skills that enhance independence and community living and participation (National Longitudinal Study, 1993; Bremer, Kachgal, and Schoeller, 2003; Johnson, Thurlow, Cosio, and Bremer, 2005; National Center on Secondary Education and Transition, February, 2004). Programs that support academic and community and employment skills are especially important for students with more significant cognitive disabilities because these students typically need formal training and skill development at the secondary level in order to attain employment and live more independently.

• Increase collaboration among stakeholder agencies for long-term postsecondary success, including continuing education, employment, independent living, and community participation. Research on evidence-based practices confirms that effective transition planning and services for students with disabilities exiting high school depend on cooperative linkages between schools and other human service and community agencies (Johnson et al., 2002; Crane and Mooney, 2005). Successful interagency agreements for transition planning and services require clear descriptions of the responsibilities of, and strategies and methods used by, schools and other agencies that support transition activities and promote success in postsecondary environments.

• Promote early student and family involvement in transition planning with an emphasis on self-determination. Too many students and families report that a “lack of information” about postsecondary opportunities, including continuing education and community and adult services, restricts meaningful involvement in the transition planning for post-school opportunities, as required by IDEA (National Center on Secondary Education and Transition, January, 2004; Hasazi et al., 2005). Providing students and families with vital information early in the transition planning process supports informed decision-making and promotes self-determination and self-advocacy.

Outcome 6: All Service Providers Including Special Education Teachers, Paraprofessionals, Related Service Personnel and Early Intervention Personnel Will Be Qualified, and Possess the Knowledge and Skills to Implement Effective, Research-Based Practices and Interventions

This outcome is intended to focus on ensuring that the individuals who are responsible for serving children with disabilities and implementing IDEA are appropriately and adequately trained and have the necessary content knowledge and skills. Under the highly qualified requirements contained in IDEA, all special education teachers must be fully certified as special education teachers. Additionally, special education teachers who teach core academic subjects are required to meet the requirements for highly qualified teachers under NCLB, except as provided under IDEA. These requirements do not apply to IDEA Part C providers. OSEP has a long history of supporting evidence-based training programs for special education, early intervention, and related service personnel. Historically, Federal investments in training programs have been targeted in two key areas: (1) Addressing critical, on-going shortages in the supply of qualified personnel; and (2) addressing the need for high quality training programs that are capable of training personnel who are knowledgeable and skilled in evidence-based practices to improve results for children with disabilities.

The Department intends to support IDEA Part D National Activities that address this outcome by supporting projects and activities that are designed to:

• Develop and disseminate model programs that enhance the knowledge and skills of special education, related service and early intervention providers across disabilities and age, grade, and content areas. Model strategies, such as programs involving nationally disseminated evidence-based training modules and beginning teacher mentor and induction models, have been linked to improvements in the preparation of special education teachers. Institutions of higher education responsible for preparing teachers need resources and information on the best available evidence and strategies that are linked to improved outcomes for children with disabilities. These types of model programs and strategies would also be beneficial to regular education training programs in assisting those teachers in meeting their instructional responsibility for children with disabilities.

• Identify the characteristics of quality pre-service programs that prepare special and regular education teachers and early childhood providers to best serve students with disabilities. Pre-service programs must recognize that special and regular education teachers and early childhood providers are responsible for the instruction of individuals with diverse needs, backgrounds, and learning styles. Continued improvement in the pre-service preparation of teachers requires identification of program characteristics that promote instructional and behavioral skills consistent with the requirements for highly qualified teachers.

• Investigate and validate alternative routes to teacher certification. The increased demand for teachers, and particularly special education teachers, has renewed interest in alternative certification mechanisms. On-line instruction and other innovative approaches are providing opportunities for students from non-traditional backgrounds to seek teacher certification. While alternative certification programs may be necessary to help States address existing shortages in the supply of qualified personnel, it is essential to establish and maintain rigorous outcome standards for the graduates of these programs.

• Develop an effective infrastructure that responds to the changing needs of teachers and school leaders, including the provision of technical assistance, innovative pre-service programs, and the use of technology to address professional development needs. The professional preparation and development of instructional and leadership personnel serving students with disabilities must be considered ongoing rather than terminal. Continuing high quality, evidence-based technical assistance and professional development programs and supports enable instructional and leadership personnel to meet the changing needs of students and families and to take full advantage of new technologies that may enable them to serve students with disabilities more effectively.

• Enhance recruitment and retention practices to ensure a qualified work force. School districts list a shortage of qualified applicants as the greatest barrier to obtaining qualified special education teachers (Billingsley and McLeskey, 2004; Billingsley, 2004; McLeskey, Tyler, and Flippin, 2004; Carlson et al., 2002). Effective recruitment and retention practices are critical to securing and maintaining a qualified workforce. More than one-third of special education teachers are either undecided about how long they are likely to remain in teaching, or do not plan to continue teaching in special education until they retire (Carlson et al., 2002). Accordingly, more work must be done to identify the factors that attract individuals to the field of special education as well as the rewards and incentives that will enable school districts to retain skilled teachers, related service personnel, and school leaders.

Outcome 7: Family Capacity will be Enhanced

This outcome focuses on enhancing family capacity in areas such as: Knowing their rights under IDEA and how to advocate for their children; understanding their children's strengths, abilities, and special needs; helping their children develop and learn; having access to support systems; and having access to desired services, programs, and activities in their communities.

The Department intends to support IDEA Part D National Activities that address this outcome by supporting projects and activities that are designed to:

• Ensure that parents and families across the socio-economic and cultural spectrum have access to and understand information that will support their involvement in all decisions about their child. Outreach is necessary to ensure that all families are aware of and have access to usable and timely resources to inform and empower decision-making about their child. Targeted outreach is needed to ensure the inclusion of underserved families as defined in IDEA, including low income parents, parents of limited English proficient children, and parents with disabilities.

• Assist parents and families in becoming better consumers of supports and services. Families play a critical role in the education of their children. Children benefit when their parents and other family members are informed and actively engaged consumers of the educational supports and services provided to children with disabilities. With additional information and training, more parents can more fully participate in the education of their children.

• Enhance the capacity of underserved parents and families to become decision-makers in their child's current and future educational, home and community environments. There is a need to enhance the capacity of underserved families to become active decision-makers regarding their child's education. For example, underserved families need support in readily accessing information about proven practices relating to their child's education. These families also need support in determining which evidence-based educational and early intervention practices are most appropriate for their child.

• Promote the development of school leadership that emphasizes the creation and maintenance of positive school environments that welcome and support diversity. School leadership is a key factor in school-wide change. Leadership development should, therefore, emphasize the creation of positive school environments that welcome diversity.

• Promote partnerships between parent organizations and OSEP's Research-to-Practice initiatives. OSEP has facilitated partnerships between parent organizations and projects supported under part D of IDEA. Such partnerships should continue to be facilitated, including by providing support for products and programs developed for parents, enabling them to more fully participate in improving their child's early intervention and educational experiences. Ongoing efforts will ensure scientifically based practices and other resources are timely and available to families in a usable format.

Comprehensive Plan Implementation

OSEP, as the principal Federal agency administering IDEA, will implement the Comprehensive Plan by pursuing long-term research-to-practice efforts for each program authorized under Subparts 2 and 3. Funded projects and activities will take full advantage of the more than 25 years of Federal support for research and innovation, demonstrations, personnel preparation, technology and media, and technical assistance and dissemination that has built an important knowledge base for improving results for children with disabilities.

OSEP will capitalize and extend the accomplishments of the projects it has supported in the past by supporting new projects that organize and transfer knowledge to practice using one or a combination of the programs authorized under part D of IDEA. Given resource limitations and the current state of knowledge relevant to any investment direction, OSEP will identify specific projects and activities that:

• Take advantage of the Department's current activities targeted toward specific outcomes.

• Optimally combine activities authorized under several types of IDEA Part D programs, including technical assistance, dissemination, personnel preparation, technology and media, and parent training and information.

• Reflect the Department's internal planning efforts and immediate needs of States and other IDEA stakeholders.

• Leverage OSEP's ability to draw attention to the substantive area addressed by the project or activity from other Federal, State, local, and private agencies and organizations.

• Have the greatest potential to contribute to improved results for children with disabilities in the next decade.

Coordination With the National Center for Special Education Research

OSEP has coordinated during the planning and preparation of this Plan and will continue to coordinate, as directed by section 681(a)(1) of IDEA, the implementation of this Plan with the National Center for Special Education Research (NCSER) in the Institute of Education Sciences (IES).

In addition, with the award of a design contract, NCSER has launched an independent assessment to ascertain what progress has been made in the implementation of IDEA. This review will permit the NCSER to take inventory of the national studies conducted previously, the data sources, and the research questions addressed, and prepare an informed set of research questions and proposed study designs for further studies and evaluations authorized by section 664 of IDEA.

IES also will continue to support existing studies, including child-based longitudinal research, and initiate new studies designed to evaluate and support the implementation of IDEA. As such, IES will continue to fund rigorous evaluations of policy and practice under IDEA, including an examination of the quality of States' monitoring practices, a study of States' implementation of alternate assessments and their use and effectiveness in appropriately measuring student progress, an impact evaluation of the State Pilot Projects for Multi-Year IEPs and Paperwork Reduction authorized under IDEA, and an evaluation of the IDEA Personnel Development program.

Commitment to Quality Implementation

OSEP will continue to seek the opinions of consumers and research, training, technology, and technical assistance experts on the Department's progress in implementing the Comprehensive Plan. Also, as part of its annual GPRA responsibilities, OSEP will evaluate the quality of activities supported under the Comprehensive Plan. OSEP has developed a set of long-range goals and annual objectives and indicators that it will use to monitor and ensure quality implementation of the Plan. These goals, objectives and indicators are available can be viewed at: http://www.ed.gov/about/reports/annual/index.html?src=pn.

Next Steps

After OSEP completes its review of the comments received in response to the notice in the Federal Register requesting comments and recommendations on the proposed Comprehensive Plan, OSEP will finalize the Comprehensive Plan and provide outreach to inform IDEA Part D stakeholders about the final Plan.

References

Artiles, A.J., Rueda, R., Salazar, J. & Higareda, I. (2002). Within-group diversity in minority disproportionate representation: English language learners in urban school districts. Exceptional Children, 71, 283-300.

Billingsley, B.S. (2004). Special education teacher retention and attrition: A critical analysis of the research literature. Journal of Special Education, 38(1), 39-55.

Billingsley, B.S., & McLeskey, J. (2004). Critical issues in special education teacher supply and demand: Overview. Journal of Special Education, 38(1), 2-5.

Bremer, C.D., Kachgal, M., & Schoeller, K. (2003). Self-determination: Supporting successful transition. (NCSET Research to Practice Brief. Vol. 2 No. 1.) Minneapolis, MN: University of Minnesota, National Center on Secondary Education and Transition. Retrieved March 1, 2006, from http://www.ncset.org/publications/viewdesc.asp?id=962.

Brooks, A., Todd, A.W., Tofflemoyer, S., & Horner, R.H. (2003). Use of functional assessment and a self-management system to increase academic engagement and work completion. Journal of Positive Behavior Intervention, 5, 144-152.

Carlson, E., Brauen, M., Klein, S., Schroll, K., & Willig, S. (2002). Study of personnel needs in special education (SPeNCE): Recruiting and Retaining High Quality Teachers. Rockville, MD: Westat.

Crane, K., & Mooney, M. (2005). Essential tools: Community resource mapping. Minneapolis, MN: University of Minnesota, National Center on Secondary Education and Transition. Retrieved March 1, 2006, from http://www.ncset.org/publications/essentialtools/mapping/default.asp.

Deshler, D.D., Shumaker, J.B., Bulgren, J.A., Lenz, B.K., Carnine, D., Grossen, B., & Jantzen, J.E. (2001). Teaching students with LD how to master difficult content by anchoring it to what they know. Teaching Exceptional Children, 33(4), 82-86.

Donovan, S., & Cross, C. (2002). Minority students in special and gifted education. Washington, DC: National Academy Press.

Foorman, B.R., Francis, D.J., Fletcher, J.M., Schatschneider, C., & Mehta, P. (1998). The role of instruction in learning to read: Preventing reading failure in at-risk children. Journal of Educational Psychology, 90, 37-55.

Fuchs, D., Fuchs, L.S., McMaster, K.N., & Al Otalba, S. (2003). Identifying children at risk for reading failure: Curriculum-based measurement and the dual-discrepancy approach. In H.L. Swanson, K.R. Harris & S. Graham (Eds.), Handbook of learning disabilities (pp. 431-449). New York.

Garcia, S.B., & Ortiz, A.A. (1988, June). Preventing inappropriate referrals of language minority students to special education. FOCUS/NCBE, 5, 1-17.

Gersten, R., Fuchs, L.S., Williams, J.P., & Baker, S. (2001). Teaching reading comprehension strategies to students with learning disabilities: A review of research. Review of Educational Research, 71(2), 279-320.

Hasazi, S., Johnson, D., Thurlow, M., Cobb, B., Trach, J., Stodden, B., Leuchovius, D., Hart, D., Benz, M., DeStefano, L., & Grossi, T. (2005). Transitions from home and school to roles and supports of adulthood. In K.C. Lakin, & A. Turnbull (Eds.), National goals and research for persons with intellectual and developmental disabilities (pp. 65-92). Washington, DC: American Association on Mental Retardation and The Arc of the United States.

Johnson, D.R., Stodden, R.A., Emanuel, E.J., Luecking, R. & Mack, M. (2002). Current challenges facing secondary education and transition services: What research tells us. Exceptional Children, 68(4), 519-531.

Johnson, D.R., Thurlow, M., Cosio, A., & Bremer, C.D. (2005). Diploma options for students with disabilities. Minneapolis, MN: University of Minnesota, National Center on Secondary Education and Transition. Retrieved March 1, 2006, from http://www.ncset.org/publications/viewdesc.asp?id=1928.

Klingner, J.K., Artiles, A.J., Kozleski, E., Harry, B., Zion, S., Tate, W., Durán, G.Z., & Riley, D. (2005, September 8). Addressing the disproportionate representation of culturally and linguistically diverse students in special education through culturally responsive educational systems. Education Policy Analysis Archives, 13(38).

Kozleski, E.B., Sobel, D., & Taylor, S. (2003). Addressing issues of disproportionality: Embracing and building culturally responsive practices. Multiple Voices for Diverse Exceptional Learners, 6, 73-87.

Lehr, C.A., Johnson, D.R., Bremer, C.D., Cosio, A., & Thompson, M. (2004). Essential tools: Increasing rates of school completion: Moving from policy and research to practice. Minneapolis, MN: University of Minnesota, National Center on Secondary Education and Transition. Retrieved March 1, 2006 from http://www.ncset.org/publications/essentialtools/ dropout/default.asp.

Losen, D.J., & Reschly, D.L. (1998). Racial inequality in special education. Cambridge, MA: Harvard University Press.

McLeskey, J., Tyler, N.C., & Flippin, S.S. (2004). The supply of and demand for special education teachers: A review of research regarding the chronic shortage of special education teachers. Journal of Special Education, 38(1), 5-21).

National Center on Secondary Education and Transition (January 2004). Current challenges facing the future of secondary education and transition services for youth with disabilities in the United States (NCSET Discussion Paper). Minneapolis, MN: University of Minnesota. Retrieved March 1, 2006, from http://www.ncset.org/publications/discussionpaper/default.asp.

National Center on Secondary Education and Transition (February 2004). Person-centered planning: a tool for transition (NCSET Parent Brief). Minneapolis, MN: University of Minnesota. Retrieved March 1, 2006, from http://www.ncset.org/publications/viewdesc.asp?id=1431.

National Center on Secondary Education and Transition (2005). National standards for secondary education and transition for all youth. Minneapolis, MN: University of Minnesota. Retrieved March 1, 2006, from http://www.ncset.org/teleconferences/docs/NASETFramework.doc.

The National Longitudinal Study (NLTS) (1993). The National Longitudinal Study: A summary of findings. Washington, DC: U.S. Department of Education, Office of Special Education Programs.

OSEP Center on Positive Behavioral Interventions and Supports, University of Oregon (2002). School-wide Positive Behavior Support: Implementer's Blueprint and Self-Assessment. Washington, DC: U.S. Department of Education, Office of Special Education Programs.

Oswald, D.P., Coutinho, M.J., Best, A.M., & Singh, N.N. (1999). Ethnic representation in special education: The influence of school-related economic and demographic variables. Journal of Special Education, 32, 194-206.

Speece, D.L., & Case, L.P. (2001). Classification in context: An alternative approach to identifying early reading disability. Journal of Educational Psychology, 93, 735-749.

Spicuzza, R., Ysseldyke, J., Lemkuil, A., Koscioleck, S., Boys, C., & Teelucksingh, E. (2001). Effects of using a curriculum-based monitoring system on the classroom instructional environment and math achievement. Journal of Educational Psychology, 39(6), 521-542.

Stormont, M., Lewis, T.J., & Beckner, R. (2005). Positive behavioral support systems: Applying key features in preschool settings. Teaching Exceptional Children, 37(6), 42-49.

Sugai, G., Horner, R.H., Dunlap, G., Hieneman, M., Lewis, T.J., Nelson, C.M., Scott, T., Liaupsin, C., Sailor, W., Turnbull, A.P., Turnbull, H.R., III, Wickham, D., Reuf, M., & Wilcox, B. (2000). Applying positive behavioral support and functional behavioral assessment in schools. Journal of Positive Behavioral Interventions, 2, 131-143.

Thurlow, M.L., Sinclair, M.F., & Johnson, D.R. (2002). Students with disabilities who drop out of school: Implications for policy and practice (NCSET Issue Brief Vol. 1 No. 2). Minneapolis, MN: University of Minnesota, National Center on Secondary Education and Transition. Retrieved March 1, 2006, from http://www.ncset.org/publications/viewdesc.asp?id=425.

Tomlinson, C.A. (2001). How to differentiate instruction in mixed-ability classrooms (2nd ed.) Alexandria, VA: Association of Supervision and Curriculum Development.

Torgesen, J.K., Alexander, A.W., Wagner, R.K., Rashotte, C.A., Voeller, K.K.S., & Conway, T. (2001). Intensive remedial instruction for children with severe reading disabilities: Immediate and long-term outcomes from two instructional approaches. Journal of Learning Disabilities, 34(1), 33-58, 78.

Vaughn, S., Linan-Thompson, S., & Hickman, P. (2003). Response to instruction as a means of identifying students with reading/learning disabilities. Exceptional Children, 69(4), 391-409.

Vellutino, F.R., Scanlon, D.M., & Lyon, G.R. (2000). Differentiating between difficult-to-remediate and readily remediated poor readers. Journal of Learning Disabilities, 33, 223-238.

Wagner, M., Newman, L., Cameto, R., & Levine, P. (2005). Changes over time in the early postschool outcomes of youth with disabilities. A report of findings from the National Longitudinal Transition Study (NLTS) and the National Longitudinal Transition Study-2 (NLTS2). Menlo Park, CA: S RI International. Retrieved March 1, 2006, from http://www.nlts2.org/pdfs/str6_completereport.pdf.

Warren, J.S., Edmonsen, H.M., Griggs, P., Lassen, S.R., McCart, A., Turnbull, A.P., & Sailor, W. (2004). Urban applications of schoolwide positive behavior support: Critical issues and lessons learned. In Bambara, L., Dunlap, G. & Wchwartz, E. (Eds.), Positive behavior support: Critical Articles on improving practice for individuals with severe disabilities (pp. 376-387). Pro-Ed and TASH.

[FR Doc. 06-9404 Filed 11-24-06; 8:45 am]

BILLING CODE 4000-01-P